FEDERAL MEDIATION AND CONCILIATION SERVICE

Notice of Public Availability of the Federal Mediation and Conciliation Service FY2014 Service Contract Analysis and Inventory

AGENCY: Federal Mediation and Conciliation Service.

ACTION: Notice.

SUMMARY: Section 743 of Division C of the Consolidated Appropriations Act of 2010, Public Law 111-117, requires civilian agencies to prepare an annual inventory of their service contracts and to analyze the inventory to determine if the mix of Federal employees and contractors is effective or if rebalancing may be required. In accordance with Section 743, the Federal Mediation and Conciliation Service is publishing this notice to instruct the public of the availability of its FY 2014 Service Contract Analysis and Inventory. The Inventory provides information on service contract actions over $25,000 that were made in FY 2014. These documents are available on the FMCS Web site at https://www.fmcs.gov/resources/documents-and-data/. Please see section under Reports for Service Contract information.

FOR FURTHER INFORMATION CONTACT: Linda Gray-Broughton, Grants Specialist at lgbroughton@fmcs.gov or 202-606-8181.

Dated: December 2, 2015.
Jeannette Walters-Marquez,
Attorney, FMCS.

[FR Doc. 2015-30859 Filed 12-7-15; 8:45 am]

BILLING CODE 6732-01-P